DEPARTMENT OF THE INTERIOR

Fish and Wildlife Service

50 CFR Part 17

Notice of Availability of a Draft Recovery Plan for the Northern Idaho Ground Squirrel (Spermophilus brunneus brunneus), for Review and Comment

AGENCY: Fish and Wildlife Service, Interior.

ACTION: Notice of document availability.

SUMMARY: We, the U.S. Fish and Wildlife Service, announce the availability for public review of the Draft Recovery Plan for the Northern Idaho Ground Squirrel (Spermophilus brunneus brunneus; squirrel). The draft plan includes specific recovery criteria and measures to be taken in order to delist the squirrel. We solicit review and comment from local, State, and Federal agencies, and the public on this draft recovery plan.

DATES: Comments on the draft recovery plan must be received on or before September 13 2002, to receive consideration by the Service.

ADDRESSES: Copies of the draft recovery plan are available for inspection, by appointment, during normal working hours at the following location: Snake River Fish and Wildlife Office, 1387 S. Vinnell Way, Suite 368, Boise, Idaho 83709 (Phone: 208-378-5243). Requests for copies of the draft recovery plan, and written comments and materials regarding this plan should be addressed to Robert Ruesink, Field Supervisor, at the above address.

FOR FURTHER INFORMATION CONTACT: Rich Howard, Fish and Wildlife Biologist, at the above address.

SUPPLEMENTARY INFORMATION:

Background

Recovery of endangered or threatened animals and plants is a primary goal of the U.S. Fish and Wildlife Service's endangered species program. A species is considered recovered when the species' ecosystem is restored and/or threats to the species are removed so that self-sustaining and self-regulating populations of the species can be supported as persistent members of native biotic communities. Recovery plans describe actions considered necessary for the conservation of the species, establish criteria for downlisting or delisting listed species, and estimate time and cost for implementing the measures needed for recovery.

The Endangered Species Act of 1973, as amended in 1988 (Act) (16 U.S.C. 1531 et seq.), requires the development of recovery plans for listed species unless such a plan would not promote the conservation of a particular species. Section 4(f) of the Act requires that public notice and an opportunity for public review and comment be provided during recovery plan development. We will consider all information presented during the public comment period prior to approval of this recovery plan. Substantive technical comments may result in changes to the plan. Substantive comments regarding recovery plan implementation will be forwarded to appropriate Federal or other entities for consideration during the implementation of recovery actions.

The squirrel was listed as a threatened species on April 5, 2000. This subspecies is endemic to the Weiser and Little Salmon River Basins in western Idaho. It is distributed in small, isolated populations across two U.S. Forest Service Districts, and State and private lands in Adams and Valley Counties of western Idaho. It formerly occurred in Long Valley and Round Valley of Valley County, but no viable populations have been documented there within the past 5 years. Twenty-three population sites are considered extant; another 14 have unknown status or have become extirpated.

Declines in extant population sites and numbers of squirrels are attributed to the loss and fragmentation of habitat. The squirrel is dependent on meadow and shrub/grassland, and does well in habitat bordered by coniferous forests. However, the species becomes extirpated from areas that develop high densities of small trees. Conifers have displaced the species' food base, and inhibited or prevented dispersal of yearlings and adults between population sites. Land conversion from meadows and shrub/grasslands to agricultural crops, residential areas, and recreational facilities has also contributed to the eradication of local populations of squirrels.

The objective of this plan is to provided a framework for the recovery of the squirrel so that protection by the Act is no longer necessary. Recovery is contingent on protecting and managing the squirrel's habitat to maintain and enhance viable populations through a range of natural variability.

The squirrel will be considered for delisting when a total of 30 stable population sites are distributed throughout the historic range of the species. Each population site that has maintained a 5-year average size of 100 to 500 individuals will be considered stable. At least 20 of the 30 population sites must be protected. Additionally, genetic exchange between population sites should be occurring through dispersal or linkage corridors; a post-delisting monitoring program should be written and ready to be implemented; and ecological management of habitats should be initiated for all population sites.

Authority: The authority for this action is section 4(f) of the Endangered Species Act, 16 U.S.C. 1533 (f).

Dated: May 16, 2002.
Benito A. Perez,
Acting Regional Director, Region 1, Fish and Wildlife Service.

[FR Doc. 02-17685 Filed 7-12-02; 8:45 am]

BILLING CODE 4310-55-P